JUDICIAL CONFERENCE OF THE UNITED STATES

Meeting of the Judicial Conference Advisory Committee on Rules of Evidence

AGENCY: Judicial Conference of the United States Advisory Committee on Rules of Evidence.

ACTION: Notice of open meeting.

SUMMARY: The Advisory Committee on Rules of Evidence will hold a one-day meeting. The meeting will be open to public observation but not participation.

DATES: November 20, 2009.

Time: 8:30 a.m. to 5 p.m.

ADDRESSES: The Planters Inn, 112 North Market Street, Charleston, South Carolina 29401.

FOR FURTHER INFORMATION CONTACT: John K. Rabiej, Chief, Rules Committee Support Office, Administrative Office of the United States Courts, Washington, DC 20544, telephone (202) 502-1820.

Dated: June 11, 2009.
John K. Rabiej,
Chief, Rules Committee Support Office.

[FR Doc. E9-14132 Filed 6-16-09; 8:45 am]

BILLING CODE 2210-55-M